DEPARTMENT OF HEALTH AND HUMAN SERVICES

Centers for Disease Control and Prevention

[60Day-25-1368; Docket No. CDC-2025-0014]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Performance Monitoring of CDC's Comprehensive Suicide Prevention Program. This program will allow CDC to monitor awardee's progress, identify trends, and translate and disseminate information about successful suicide prevention and control strategies.

DATES: CDC must receive written comments on or before August 15, 2025.

ADDRESSES: You may submit comments, identified by Docket No. CDC-2025-0014 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Performance Monitoring of CDC's Comprehensive Suicide Prevention Program (OMB Control No. 0920-1368, Exp. 9/30/2025)—Revision—National Center for Injury Prevention and Control (NCIPC), Centers for Disease Control and Prevention (CDC).

Background and Brief Description

Suicide rates have increased by about 36% between 2000 and 2023. In January 2020, CDC received an appropriation for its Comprehensive Suicide Prevention (CSP) Program. This program seeks to reduce suicide morbidity and mortality by 10% in populations disproportionately impacted by suicide in participating jurisdictions. NCIPC will continue to use the information collected to perform program activities to accomplish the following objectives:

• Monitor each awardee's progress and identify facilitators and barriers to program implementation and achievement of outcomes. Monitoring allows NCIPC to determine whether an awardee is meeting stated performance goals, to inform awardee continuous quality improvements, and to inform the type of intensity of CDC-provided technical assistance to support attainment of their performance measures.

• Identify trends in injury surveillance data to inform state foci for suicide prevention and intervention strategies as well as the production of relevant reports, journal articles, and resources for state health departments.

• Identify, translate, and disseminate information about successful suicide prevention and control strategies implemented by recipients through the development of journal articles, tools, templates, and other suicide prevention resources/products.

The Centers for Disease Control and Prevention (CDC) National Center for Injury Prevention and Control (NCIPC) received initial OMB approval in September 2022. This revision request is for the addition of a new instrument to monitor syndromic surveillance data on a quarterly schedule and to update the estimated annualized cost to the government. The quarterly syndromic surveillance report enables CSP recipients to provide quarterly updates to partners in their individual jurisdictions, describing trends in syndromic surveillance data, including upticks or changes in patterns or groups impacted to promote tailored suicide prevention outreach. Quarterly reporting ensures CDC is apprised of trends in suicide related emergency department data within jurisdictions.

Recipients will develop a comprehensive approach to suicide prevention and then implement and evaluate this approach. The comprehensive approach includes: (1) convening of multi-sectoral partners; (2) using data to identify and learn about suicide in populations disproportionately impacted; (3) inventorying existing suicide prevention programs in the community; (4) selecting suicide prevention strategies and approaches with the best available evidence to complement existing programs; (5) creating a communication plan to keep interest-holders informed; and (6) ongoing implementation and evaluation. Evaluation will include monitoring of short-, intermediate-, and long-term outcomes.

Information to be collected will provide crucial data for program performance monitoring and provide CDC with the capacity to respond in a timely manner to requests for information about the program from the Department of Health and Human Services (HHS), the White House, Congress, and other sources. Information to be collected will also strengthen CDC's ability to monitor awardee progress, provide data-driven technical assistance, and disseminate the most current surveillance data on suicide and suicide attempts.

CDC requests OMB approval for an estimated 480 annual burden hours. There is no cost to respondents other than their time to participate.

Estimated Annualized Burden Hours
Type of respondents | Form name | Number of respondents | Number of responses per respondent | Average burden per response (in hours) | Total burden (in hours)
CSP Program Recipients | Annual Progress Report | 24 | 1 | 12 | 288
CSP Program Recipients | Syndromic Surveillance Report | 24 | 4 | 2 | 192
Total |  |  |  |  | 480

Jeffrey M. Zirger,
Lead, Information Collection Review Office, Office of Public Health Ethics and Regulations, Office of Science, Centers for Disease Control and Prevention.

[FR Doc. 2025-10864 Filed 6-13-25; 8:45 am]

BILLING CODE 4163-18-P